DEPARTMENT OF VETERANS AFFAIRS

[OMB Control No. 2900-0042]

Agency Information Collection Activities Under OMB Review

AGENCY: Board of Veterans' Appeal, Department of Veterans Affairs.

ACTION: Notice.

SUMMARY: In compliance with the Paperwork Reduction Act (PRA) of 1995 (44 U.S.C. 3501-21.), this notice announces that the Board of Veterans' Appeal (BVA), Department of Veterans Affairs, has submitted the collection of information abstracted below to the Office of Management and Budget (OMB) for review and comment. The PRA submission describes the nature of the information collection and its expected cost and burden; it includes the actual data collection instrument.

DATES: Comments must be submitted on or before September 21, 2006.

FOR FURTHER INFORMATION CONTACT: Denise McLamb, Records Management Service (005G2), Department of Veterans Affairs, 810 Vermont Avenue, NW., Washington, DC 20420, (202) 565-8374, Fax (202) 565-7045 or e-mail: denise.mclamb@mail.va.gov. Please refer to “OMB Control No. 2900-0042.”

Send comments and recommendations concerning any aspect of the information collection to VA's OMB Desk Officer, OMB Human Resources and Housing Branch, New Executive Office Building, Room 10235, Washington, DC 20503, (202) 395-7316. Please refer to “OMB Control No. 2900-0042” in any correspondence.

SUPPLEMENTARY INFORMATION: Title: Statement of Accredited Representative in Appealed Case, VA Form 646.

OMB Control Number: 2900-0042.

Type of Review: Extension of a currently approved collection.

Abstract: A recognized organization, attorney, agent, or other authorized person representing VA claimants before the Board of Veterans' Appeals complete VA Form 646 to provide identifying data describing the basis for their claimant's disagreement with the denial of VA benefits. VA uses the data collected to identify the issues in dispute and to prepare a decision responsive to the claimant's disagreement.

An agency may not conduct or sponsor, and a person is not required to respond to a collection of information unless it displays a currently valid OMB control number. The Federal Register Notice with a 60-day comment period soliciting comments on this collection of information was published on April 6, 2006, at pages 17563-17564.

Affected Public: Not for profit institutions.

Estimated Total Annual Burden: 30,462 hours.

Estimated Average Burden Per Respondent: 60 minutes.

Frequency of Response: On occasion.

Estimated Number of Respondents: 30,462.

Dated: August 7, 2006.
By direction of the Secretary.
Denise McLamb,
Program Analyst, Records Management Service.

[FR Doc. E6-13923 Filed 8-21-06; 8:45 am]

BILLING CODE 8320-01-P